DEPARTMENT OF THE TREASURY

Internal Revenue Service

26 CFR Part 1

[TD 9572]

RIN 1545-BK53

Dividend Equivalents From Sources Within the United States

Correction

In rule document 2012-01234 beginning on page 3108 of the issue of Monday, January 23, 2012 make the following correction:

On page 3108, in the second column, in the heading, immediately below “26 CFR Part 1”, “[TD 9572]” should appear.

[FR Doc. C1-2012-1234 Filed 2-3-12; 8:45 am]

BILLING CODE 1505-01-D